DEPARTMENT OF ENERGY

Federal Energy Regulatory Commission

[Docket No. CP14-58-000]

Cadeville Gas Storage LLC; Notice of Request Under Blanket Authorization

Take notice that on January 29, 2014 Cadeville Gas Storage LLC (Cadeville), Three Riverway, Suite 1350, Houston, Texas 77056, filed in the above Docket, a prior notice request pursuant to section 157.213 of the Commission's regulations under the Natural Gas Act (NGA) and Cadeville's authorization in Docket No. CP10-16-000, for authorization to reclassify the working and base gas capacities in the storage reservoir related to Cadeville's approved natural gas storage facility in Ouachita Parish, Louisiana, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Kevin Holder, Sr. Vice President and Chief Commercial Officer, Cadellive Gas Storage LLC, Three Riverway, Suite 1350, Houston, Texas 77056, at (713) 350-2500.

Specifically, Cadeville propose to increase the working gas capacity from 16.4 Bcf to 17 Bcf, while decreasing the base gas capacity from 5.4 Bcf to 4.8 Bcf. Cadeville states that its proposal does not change the total capacity of the project of approximately 21.8 Bcf or any of the other approved operating parameters, and no new facilities are required for this activity.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: January 30, 2014.
Kimberly D. Bose,
Secretary.

[FR Doc. 2014-02485 Filed 2-5-14; 8:45 am]

BILLING CODE 6717-01-P